DEPARTMENT OF TRANSPORTATION

National Highway Traffic Safety Administration

[Docket No. NHTSA-2018-0016]

Public Meeting Regarding NHTSA's Research Portfolio

AGENCY: National Highway Traffic Safety Administration (NHTSA), U.S. Department of Transportation (DOT).

ACTION: Notice of public meeting.

SUMMARY: NHTSA is announcing a public meeting where the agency's Vehicle Safety Research and Behavioral Safety Research offices will present information on activities related to priority research programs in vehicle and behavioral safety, including a focused overview session on NHTSA's research in Automated Driving Systems (ADSs). Representatives from multiple research offices will present the research program area activities, near-term expected deliverables, and accept questions from the audience at the end.

DATES: NHTSA will hold the public meeting on March 16, 2018 from 8:30 a.m. to 4:30 p.m., Eastern Standard Time. Check-in (through security) will begin at 7:30 a.m. Attendees should arrive early enough to enable them to go through security by 8:30 a.m. The public docket will remain open until April 2, 2018.

ADDRESSES: The public meeting will be held at the DOT headquarters building located at 1200 New Jersey Avenue SE, Washington, DC 20590 (Green Line Metro Station at Navy Yard) in the [West Building Atrium]. This facility is accessible to individuals with disabilities. The meeting will also be webcast live, and a link to the webcast will be made available to registrants prior to the event.

FOR FURTHER INFORMATION CONTACT: If you have questions about the public meeting, please contact Lisa Floyd at 202-366-4697, by email at Lisa.Floyd@dot.gov, or by U.S. Mail at U.S. Department of Transportation, 1200 New Jersey Avenue SE, Washington, DC 20590.

SUPPLEMENTARY INFORMATION: Registration is necessary for all attendees. Attendees should register at https://www.surveymonkey.com/r/NHTSAPUBLICMEETING by March 9, 2018. Please provide name, affiliation, email, and indicate whether you will be attending in person and whether you require special accommodations. Space is limited, so advanced registration is highly encouraged.

NHTSA DOT is committed to providing equal access to this meeting for all participants. If you need an accommodation because of a disability, please contact Lisa Floyd at 202-366-4697, or via email at Lisa.Floyd@dot.gov, with your request by close of business March 9, 2018. Should it be necessary to cancel or reschedule the meeting due to inclement weather or other emergency, NHTSA will take all available measures to notify registered participants.

NHTSA will conduct the public meeting informally, and technical rules of evidence will not apply. We will arrange for a written transcript of the meeting and keep the official record open for 30 days after the meeting to allow submission of supplemental information. You may make arrangements to obtain copies of the transcript directly with the court reporter, and the transcript will also be posted in the docket when it becomes available.

Written Comments: Written comments on the presented information can be submitted during the 30-day comment period. Please submit all written comments no later than April 2, 2018 by any of the following methods:

• Federal Rulemaking Portal: Go to http://www.regulations.gov. Follow the online instructions for submitting comments.

• Mail: Docket Management Facility: U.S. Department of Transportation, 1200 New Jersey Avenue SE, West Building Ground Floor, Room W12-140, Washington, DC 20590-0001.

• Hand Delivery or Courier: 1200 New Jersey Avenue SE, West Building Ground Floor, Room W12-140, Washington, DC 20590-0001, between 9 a.m. and 5 p.m. ET, Monday through Friday, except Federal holidays.

• Fax: 202-366-1767.

Instructions: All submissions must include the agency name and docket number. Note that all comments received will be posted without change to http://www.regulations.gov, including any personal information provided. Please see the Privacy Act discussion below.

Docket: For access to the docket, go to http://www.regulations.gov at any time, or to 1200 New Jersey Avenue SE, West Building, Ground Floor, Room W12-140, Washington, DC 20590 between 9 a.m. and 5 p.m., Monday through Friday, except Federal holidays. Telephone: 202-366-9826.

Privacy Act: Anyone can search the electronic form for comments published in the docket by the name of the individual submitting the comment (or signing the comment, if submitted on behalf of an association, business, labor union, etc.). You may review DOT's complete Privacy Act Statement in the Federal Register published on April 11, 2000 (Volume 65, Number 70; pages 19477-78) or you may visit https://www.regulations.gov/privacyNotice.

Confidential Business Information: If you wish to submit any information under a claim of confidentiality, you should submit three copies of your complete submission, including the information you claim to be confidential business information to the Chief Counsel, NHTSA, at 1200 New Jersey Avenue SE, Washington, DC 20590. In addition, you should submit two copies, from which you have deleted the claimed confidential business information, to Docket Management at the address given above. When you send a comment containing information claimed to be confidential business information, you should submit a cover letter setting forth the information specified in our confidential business information regulation (49 CFR part 512).

Background: Each year, NHTSA executes a broad array of research programs in support of agency priorities. The agency's research portfolio covers program areas pertaining to vehicle safety, including safety countermeasures implemented through the vehicle, components, operation and use, among others, and behavioral safety, which includes safety countermeasures that pertain to the behavior and actions of the driver, occupant, and other road users.

The public meeting is intended to provide public outreach regarding the priority research activities at NHTSA for both vehicle and behavioral safety, including expected near-term deliverables. One of the key priority program areas for NHTSA's Vehicle Safety Research is Automated Driving Systems; thus, the public meeting will allocate dedicated time to discuss research in this program area.

For each of the areas of discussion at this public meeting, NHTSA will briefly discuss the work underway and allow time to answer questions from participants.

The agency invites comments on the information presented regarding research priorities, research goals, and additional research gaps/needs the public may believe NHTSA should be addressing. Slides presented at the public meeting will be posted to the docket subsequently. The webcast will also be made available for off-line viewing after the public meeting.

Draft Agenda

Friday, March 16, 2018

7:30 a.m.-8:45 p.m. Arrival/Check-In

8:45 a.m.-9 a.m. Housekeeping

9 a.m.-9:30 a.m. Overview

9:30 a.m.-10:45 a.m. Public Meeting Session—Crash Avoidance and Electronic Systems Safety Research

10:45 a.m.-11 a.m. Break

11 a.m.-12:15 p.m. Public Meeting Session—Biomechanics and Crashworthiness

12:15 p.m.-1:15 p.m. Lunch Break

1:15 p.m.-2:15 p.m. Automated Driving Systems Research

2:15 p.m.-2:30 p.m. Break

2:30 p.m.-4 p.m. Behavioral Safety Research

Closing

Issued in Washington, DC, under authority delegated by 49 CFR 1.95.
Nathaniel Beuse,
Associate Administrator for Vehicle Safety Research.

[FR Doc. 2018-04122 Filed 2-28-18; 8:45 am]

BILLING CODE 4910-59-P